DEPARTMENT OF TRANSPORTATION

Federal Highway Administration

Annual Materials Report on New Bridge Construction and Bridge Rehabilitation

AGENCY: Federal Highway Administration (FHWA), DOT.

ACTION: Notice.

SUMMARY: Section 1114 of the Safe, Accountable, Flexible, Efficient Transportation Equity Act: A Legacy for Users (SAFETEA-LU) (Pub. L. 109-59; 119 Stat. 1144) continued the highway bridge program to enable States to improve the condition of their highway bridges over waterways, other topographical barriers, other highways, and railroads. Section 1114(f) amends 23 U.S.C. 144 by adding subsection (r), requiring the Secretary of Transportation (Secretary) to publish in the Federal Register a report describing construction materials used in new Federal-aid bridge construction and bridge rehabilitation projects.

DATES: The report will be posted on the FHWA Web site no later than August 10, 2006.

ADDRESSES: The report will be posted on the FHWA Web site at: http://www.fhwa.dot.gov/bridge.britab.

FOR FURTHER INFORMATION CONTACT: Ms. Ann Shemaka, Office of Bridge Technology, HIBT-30, (202) 366-2997, or Mr. Thomas Everett, Office of Bridge Technology, HIBT-30, (202) 366-4675, Federal Highway Administration, 400 Seventh St., SW., Washington, DC 20590. Office hours are from 7:45 a.m. to 4:15 p.m., e.t., Monday through Friday, except Federal holidays.

SUPPLEMENTARY INFORMATION: In conformance with 23 U.S.C. 144(r), the FHWA has produced a report that summarizes the types of construction materials used in new bridge construction and bridge rehabilitation projects. Data on Federal-aid and non-Federal-aid highway bridges are included in the report for completeness. The December 2005 National Bridge Inventory (NBI) dataset was used to identify the material types for bridges that were new or replaced within the defined time period. The FHWA's Financial Management Information System (FMIS) and the 2005 NBI were used to identify the material types for bridges that were rehabilitated within the defined time period. Currently preventative maintenance projects are included in the rehabilitation totals.

The report, which is available at http://www.fhwa.dot.gov/bridge/britab, consists of the following tables:

• Construction Materials for New and Replaced Bridges, a summary report which includes Federal-aid highways and non-Federal-aid highways built in 2003 and 2004.

• Construction Materials for Rehabilitated Bridges, a summary report which includes Federal-aid and non-Federal-aid highways rehabilitated in 2003 and 2004.

• Construction Materials for Combined New, Replaced and Rehabilitated Bridges, a summary report which combines the first two tables cited above.

• Federal-aid Highways: Construction Materials for New and Replaced Bridges 2003, a detailed State-by-State report with counts and areas for Federal-aid bridges built or replaced in 2003.

• Non-Federal-aid Highways: Construction Materials for New and Replaced Bridges 2003, a detailed State-by-State report with counts and areas for non-Federal-aid bridges built or replaced in 2003.

• Federal-aid Highways: Construction Materials for Rehabilitated Bridges 2003, a detailed State-by-State report with counts and areas for rehabilitated Federal-aid bridges in 2003.

• Non-Federal-aid Highways: Construction Materials for Rehabilitated Bridges 2003, a detailed State-by-State report with counts and areas for rehabilitated non-Federal-aid bridges in 2003.

• Federal-aid Highways: Construction Materials for New and Replaced Bridges 2004, a detailed State-by-State report with counts and areas for Federal-aid bridges built or replaced in 2004.

• Non-Federal-Aid Highways: Construction Materials for New and Replaced Bridges 2004, a detailed State-by-State report with counts and areas for non-Federal-aid bridges built or replaced in 2004.

• Federal-aid Highways: Construction Materials for Rehabilitated Bridges 2004, a detailed State-by-State report with counts and areas for rehabilitated Federal-aid bridges 2004.

• Non-Federal-aid Highways: Construction Materials for Rehabilitated Bridges 2004, a detailed State-by-State report with counts and areas for rehabilitated non-Federal-aid bridges types in 2004.

• Federal-aid Highways: Construction Materials for New, Replaced and Rehabilitated Bridges 2003, which combines the 2003 reports on new, replaced and rehabilitated Federal-aid bridges.

• Non-Federal-aid Highways: Construction Materials for New, Replaced and Rehabilitated Bridges 2003, which combines the 2003 reports on new, replaced and rehabilitated non-Federal-aid bridges.

• Federal-aid Highways: Construction Materials for New, Replaced and Rehabilitated Bridges 2004, which combines the 2004 reports on new, replaced and rehabilitated Federal-aid bridges.

• Non-Federal-aid Highways: Construction Materials for New Replaced and Rehabilitated Bridges 2004, which combines the 2004 reports on new, replaced and rehabilitated non-Federal-aid bridges.

The tables provide data for 2 years: 2003 and 2004. The 2003 data is considered complete for new and rehabilitated bridges, with a minimal likelihood of upward changes in the totals. The 2004 data is considered partially complete for new bridges and complete for rehabilitated bridges, because many new bridges built in 2004 will not appear in the NBI until they are placed into service the following year. Therefore, next year's report will include 2004's data on new bridge construction, because the data will be complete.

Each table displays simple counts of bridges and total bridge deck area. Total bridge deck area is measured in square meters, by multiplying the bridge length by the deck width out-to-out. The data is categorized by the following material types, which are identified in the NBI: steel, concrete, pre-stressed concrete and other. The category “Other” includes wood, timber, masonry, aluminum, wrought iron, cast iron and other. Material type is the predominate type for the main span(s).

(Authority: 23 U.S.C. 144(r); Sec. 1114(f), Pub. L. 109-59, 119 Stat. 1144.)

Issued on: August 10, 2006.
J. Richard Capka,
Federal Highway Administrator.

[FR Doc. E6-13510 Filed 8-16-06; 8:45 am]

BILLING CODE 4910-22-P